DEPARTMENT OF ENERGY

Federal Energy Regulatory Commission

[Project No. 14374-000]

American River Power, LLC; Notice of Preliminary Permit Application Accepted for Filing and Soliciting Comments, Motions To Intervene, and Competing Applications

On March 20, 2012, American River Power, LLC filed an application for a preliminary permit under section 4(f) of the Federal Power Act proposing to study the feasibility of the Brookville Hydroelectric Water Power Project No. 14374, to be located at the existing Brookville Lake Dam on the Whitewater River, near the town of Brookville in Franklin County, Indiana. The Brookville Lake Dam is owned by the United States government and operated by the United States Army Corps of Engineers.

A preliminary permit does not authorize the permit holder to perform any land-disturbing activities or otherwise enter upon lands or waters owned by others without the owners' express permission.

The proposed project would consist of: (1) One new 60-foot-long by 30-foot-wide by 30-foot-high reinforced concrete powerhouse, containing three 3-megawatt (MW) turbines for a total capacity of 9 MW; (2) a new 220-foot-long by 9-foot-diameter steel penstock; (3) a new 35-foot-long by 35-foot-wide substation; (4) a new 400-foot-long, 12.5 to 34.5-kilovolt transmission line; and (5) appurtenant facilities. The project would have an estimated annual generation of 55 gigawatt-hours.

Applicant Contact: Mr. John Henry, 726 Eldridge Avenue, Collingswood, NJ 08107-1708; (856) 240-0707.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application can be viewed or printed on the “eLibrary” link of Commission's Web site at http://www.ferc.gov/docs-filing/elibrary.asp. Enter the docket number (P-14374) in the docket number field to access the document. For assistance, contact FERC Online Support.

Dated: September 12, 2012.
Kimberly D. Bose,
Secretary.

[FR Doc. 2012-23027 Filed 9-18-12; 8:45 am]

BILLING CODE 6717-01-P